DEPARTMENT OF THE INTERIOR

National Park Service

[NPS-WASO-CONC-11526; 2410-OYC]

Notice of Extension of Concession Contracts

AGENCY: National Park Service, Interior.

ACTION: Notice.

SUMMARY: Public notice is hereby given that the National Park Service proposes to extend the following expiring concession contracts for a period of up to 1 (one) year, or until such time as a new contract is executed, whichever occurs sooner.

DATES: Effective Date: January 1, 2013.

FOR FURTHER INFORMATION CONTACT: Jo A. Pendry, Chief, Commercial Services Program, National Park Service, 1201 Eye Street NW., 11th Floor, Washington, DC 20005; telephone (202) 513-7156.

SUPPLEMENTARY INFORMATION: All of the listed concession authorizations will expire by their terms on or before December 31, 2012. Pursuant to 36 CFR 51.23, the National Park Service has determined that the proposed short-term extensions are necessary in order to avoid interruption of visitor services and has taken all reasonable and appropriate steps to consider alternatives to avoid such interruption.

KATM001-08 | Katmailand, Inc | Katmai National Park & Preserve.
ACAD001-03 | Acadia Corporation | Acadia National Park.
NACE003-06 | Buzzard Point Boatyard Corporation | National Capital Parks—East.
CACO003-02 | Town of Truro | Cape Cod National Seashore.
COLO001-02 | Yorktowne Shoppe, Ltd | Colonial National Historical Park.
COLO006-03 | Debi A. Helseth | Colonial National Historical Park.
GATE001-02 | Jamaica Bay Riding Academy, Inc | Gateway National Recreation Area.
GATE017-03 | Jen Marina Development, LLC | Gateway National Recreation Area.
SEKI006-96 | Asilomar Management Company, LLC | Sequoia & Kings Canyon National Parks.
BRCA001-03 | Bryce Canyon Natural History Association | Bryce Canyon National Park.
CANY008-03 | Canyonlands Natural History Association | Canyonlands National Park.
GRCA001-02 | Xanterra Parks & Resorts, LLC | Grand Canyon National Park.
GRCA003-97 | D.N.C. Parks and Resorts at Grand Canyon, Inc | Grand Canyon National Park.
GRTE012-03 | The Mountain Guides | Grand Teton National Park.
IMFA001-03 | Western National Parks Association |
JODR003-04 | ARAMARK Togwotee, LLC | John D. Rockefeller, Jr., Memorial Parkway.
JODR013-04 | Rocky Mountain Snowmobile Tours | John D. Rockefeller, Jr., Memorial Parkway.
JODR015-04 | Two Bears, Inc | John D. Rockefeller, Jr., Memorial Parkway.
ROMO004-03 | Silver Peaks Enterprises, Inc | Rocky Mountain National Park.
ROMO007-03 | Homestead Firewood | Rocky Mountain National Park.
YELL300-04 | Yellowstone Expeditions | Yellowstone National Park.
YELL301-04 | Loomis Recreational, Inc | Yellowstone National Park.
YELL302-04 | See Yellowstone Tours, Inc | Yellowstone National Park.
YELL303-04 | Yellowstone Winter Guides, Inc | Yellowstone National Park.
YELL304-04 | Triangle C Ranch, LLC | Yellowstone National Park.
YELL305-04 | Loomis Recreational, Inc | Yellowstone National Park.
YELL306-04 | Buffalo Bus Touring Company | Yellowstone National Park.
YELL307-04 | Buffalo Bus Touring Company | Yellowstone National Park.
YELL308-04 | Buffalo Bus Touring Company | Yellowstone National Park.
YELL402-04 | Backcountry Adventure, Inc | Yellowstone National Park.
ZION001-03 | Bryce-Zion Trail Rides, Inc | Zion National Park.
OZAR015-04 | Kim Smith | Ozark National Scenic Riverways.
JEFF001-05 | Compass Group, NA | Jefferson National Expansion Memorial.

Dated: October 26, 2012.
Lena McDowall,
Associate Director, Business Services.

[FR Doc. 2012-29186 Filed 12-3-12; 8:45 am]

BILLING CODE 4312-53-P